DEPARTMENT OF COMMERCE

National Oceanic and Atmospheric Administration

RIN 0648-XG970

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from Rutgers University contains all of the required information and warrants further consideration. This Exempted Fishing Permit would allow four charter/party vessels to collect black sea bass. Regulations under the Magnuson-Stevens Fishery Conservation and Management Act require publication of this notice to provide interested parties the opportunity to comment on applications for proposed Exempted Fishing Permits.

DATES: Comments must be received on or before May 1, 2019.

ADDRESSES: You may submit written comments by any of the following methods:

• Email: NMFS.GAR.EFP@NOAA.gov. Include in the subject line “BSB Size at Maturity EFP.”

• Mail: Michael Pentony, Regional Administrator, NMFS, Greater Atlantic Regional Fisheries Office, 55 Great Republic Drive, Gloucester, MA 01930. Mark the outside of the envelope “Comments on BSB Size at Maturity EFP.”

FOR FURTHER INFORMATION CONTACT: Laura Hansen, Fishery Management Specialist, 978-281-9225.

SUPPLEMENTARY INFORMATION: Rutgers University submitted a complete application for an Exempted Fishing Permit (EFP) on March 21, 2019, to collect information on the effect of latitude and bottom temperature on black sea bass spawning body condition and size at maturity. The sampling is designed around spawning activities and spatial/temporal energetic variability of black sea bass. The EFP would authorize four charter/party vessels to collect and retain up to 240 black sea bass for lab analysis. This EFP would exempt the participating vessels from the following Federal regulations:

1. Recreational black sea bass possession limits specified at 50 CFR 648.145; and

2. Commercial and party/charter minimum size limits for black sea bass specified at § 648.147(a) and (b).

Black sea bass would be captured using rod and reel gear. Sampling trips would occur every two weeks, 40-60 miles off the coast of Virginia. Black sea bass of both sexes, in the 190mm-400mm size range, would be sampled during each trip. Some of the collected fish will be under the recreational minimum size limit (12.5 in; 317.5 mm) for black sea bass. A blood sample would be collected from the sampled black sea bass, the fish would be euthanized, and transported to the Virginia Institute of Marine Sciences to be dissected. During dissection, tissue samples would be taken and preserved for later analysis at a Rutgers University lab. The researcher will be on board for all sampling trips and the exemptions would only apply to fish being collected for the Rutgers University study.

If approved, Rutgers University may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 11, 2019.
Alan D. Risenhoover,
Director, Office of Sustainable Fisheries, National Marine Fisheries Service.

[FR Doc. 2019-07576 Filed 4-15-19; 8:45 am]

BILLING CODE 3510-22-P